DEPARTMENT OF TRANSPORTATION

Federal Railroad Administration

[Docket Number FRA-2024-0119]

Petition for Special Approval and Waiver of Compliance

Under part 211 of title 49 Code of Federal Regulations (CFR), this document provides the public notice that by letters dated October 15, 2024, and October 21, 2024, Michigan State Trust for Railway Preservation, Inc. (MSTRP), which operates The Steam Railroading Institute, petitioned the Federal Railroad Administration (FRA) for a special approval pursuant to 49 CFR part 215 (Railroad Freight Car Safety Standards), and a waiver of compliance from 49 CFR parts 215 and 224 (Reflectorization of Rail Freight Rolling Stock). FRA assigned the petition Docket Number FRA-2024-0119.

Specifically, MSTRP requests a special approval pursuant to § 215.203, Restricted cars, for 1 caboose (MSTX/C&O 3674) that is more than 50 years from the date of original construction. MSTRP also seeks relief from § 215.303, Stenciling of restricted cars, and § 224.3, Applicability, for the caboose. The equipment has been used in historic tourist/excursion service or for photographers and filmmakers in the past, and MSTRP stated that it wishes to use the caboose on its “annual Christmastime trains between November and December.” MSTRP added that the caboose will currently operate only on Great Lakes Central Railroad, but may operate on other short line railroads in the future.

A copy of the petition, as well as any written communications concerning the petition, is available for review online at www.regulations.gov. FRA reserves the right to issue a decision subject to consideration of any subsequently filed comments.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by January 21, 2025 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety,Chief Safety Officer.

[FR Doc. 2024-26992 Filed 11-19-24; 8:45 am]

BILLING CODE 4910-06-P